DEPARTMENT OF COMMERCE

International Trade Administration

Advisory Committee on Supply Chain Competitiveness Meeting

AGENCY: International Trade Administration, U.S. Department of Commerce.

ACTION: Notice of open meeting.

SUMMARY: This notice announces a public meeting of the Advisory Committee on Supply Chain Competitiveness (Committee). The Committee provides advice to the Secretary of Commerce.

DATES: The meeting will be held on October 19, 2012, from 9:30 a.m. to 1:30 p.m., Eastern Daylight Time.

ADDRESSES: The meeting will be held at the U.S. Department of Commerce, 1401 Constitution Avenue NW., Room 4830, Washington, DC 20230. Public comments may be mailed to Advisory Committee on Supply Chain Competitiveness, Office of Service Industries, International Trade Administration (ITA), 1401 Constitution Avenue NW., Room 11014, Washington, DC 20230, or emailed to supplychain@trade.gov.

FOR FURTHER INFORMATION CONTACT: Richard Boll, Designated Federal Officer, at (202) 482-1135 or richard.boll@trade.gov or visit the Advisory Committee on Supply Chain Competitiveness' Web site at http://ita.doc.gov/td/sif/DSCT/ACSCC/, which is under construction.

SUPPLEMENTARY INFORMATION: Background: The Committee provides advice to the Secretary of Commerce on the necessary elements of a comprehensive, holistic national freight infrastructure and a national freight policy designed to support U.S. export growth competitiveness, foster national economic competitiveness, and improve U.S. supply chain competitiveness in the domestic and global economy. (See Charter at http://ita.doc.gov/td/sif/DSCT/ACSCC/) This Committee is subject to the Federal Advisory Committee Act (FACA), 5 U.S.C. App. 2. The Committee functions solely as an advisory body in compliance with the FACA. For more information about the Committee visit: http://ita.doc.gov/td/sif/DSCT/ACSCC/.

Matters to Be Considered: This will be the inaugural meeting of the Committee. The Committee will discuss organizational and administrative issues including ethics and privacy requirements, and select a Chairperson for the Committee. The Committee will consider current issues impacting the U.S. supply chain, which include legislative updates, transportation issues, trade negotiations, and logistics data, and develop its calendar for future work. The Office of Service Industries will post a detailed agenda on its Web site, http://ita.doc.gov/td/sif/DSCT/ACSCC/, prior to the meeting. The public may provide written comments on the meeting before or after the meeting.

Time and Date: The meeting will be held on October 19, 2012 from 9:30 a.m. to 1:30 p.m., Eastern Daylight Time. The times and the agenda topics are subject to change. The meeting will be held at the U.S. Department of Commerce, 1401 Constitution Avenue NW., Room 4830, Washington, DC 20230. The meeting will be open to the public and press on a first-come, first-served basis. Space is limited. The public meeting is physically accessible to people with disabilities. Individuals requiring accommodations, such as sign language interpretation or other ancillary aids, are asked to notify Mr. Richard Boll, at (202) 482-1135 or richard.boll@trade.gov five (5) business days before the meeting.

Status: Interested parties are invited to attend and to submit written comments to the Committee at any time before or after the meeting. Parties wishing to submit written comments for consideration by the Committee in advance of this meeting must send them to Office of Services Industries (OSI), 1401 Constitution Ave. NW., Room 11014, Washington, DC 20230, or email to supplychain@trade.gov to be received by close of business on October 12, 2012, to provide sufficient time for review. Comments received after October 12, 2012, will be distributed to the Committee, but may not be reviewed prior to the meeting. It would be helpful if paper submissions also include a compact disc (CD) in HTML, ASCII, Word, or WordPerfect format (please specify version). CDs should be labeled with the name and organizational affiliation of the filer, and the name of the word processing program used to create the document. Comments provided via electronic mail also may be submitted in one or more of the formats specified above.

Records: OSI maintains records of all Committee proceedings. Committee records are available for public inspection at OSI's Washington, DC office at the address above. Documents including the Committee's charter, member list, agendas, minutes, and any reports are available on http://ita.doc.gov/td/sif/DSCT/ACSCC/.

Dated: September 17, 2012.
David Long,
Director, Office of Service Industries.

[FR Doc. 2012-23445 Filed 9-21-12; 8:45 am]

BILLING CODE 3510-DR-P